DEPARTMENT OF TRANSPORTATION

Federal Highway Administration

National Safe Routes to School Task Force to the Secretary of Transportation

AGENCY: Federal Highway Administration (FHWA), DOT.

ACTION: Notice of meeting of advisory committee.

SUMMARY: This document announces the first meeting of the National Safe Routes to School Task Force to the Secretary of Transportation. This is the first meeting of the task force. The purpose of the Task Force is to advise the Secretary of Transportation, through the Federal Highway Administration (FHWA) Office of Safety, on strategies to advance Safe Routes to School (SRTS) Programs nationwide and to encourage children, including those with disabilities, to walk and bicycle to school pursuant to Section 1404(h) of the Safe, Accountable, Flexible, Efficient Transportation Equity Act: A Legacy for Users (SAFETEA-LU) (Pub. L. 109-59). This meeting is open to the public and will have time allocated for public testimony. The public is welcome to present written or oral comments to the Task Force.

DATES: The first meeting of the Task Force is scheduled for January 11, 2007, from 8:30 a.m. to 5 p.m., e.t.

ADDRESSES: The first meeting of the Task Force will be held at the Holiday Inn Capitol, 550 C Street, SW., Washington, DC 20024.

FOR FURTHER INFORMATION CONTACT: Mr. Tim Arnade, the Designated Federal Official, Safe Routes to School Program Manager, FHWA Office of Safety Programs, (202) 366-2205 (Tim.Arnade@dot.gov); Federal Highway Administration, 400 Seventh Street, SW., Washington, DC 20590.

SUPPLEMENTARY INFORMATION:

Background

On August 10, 2005, the President signed into law the Safe, Accountable, Flexible, Efficient Transportation Equity Act: A Legacy for Users (SAFETEA-LU) (Pub. L. 109-59). Section 1404(h) of SAFETEA-LU mandates the establishment of the Task Force as follows: “The Secretary shall establish a national safe routes to school task force composed of leaders in health, transportation, and education, including representatives of appropriate Federal agencies, to study and develop a strategy for advancing safe routes to school programs nationwide.”

To carry out this requirement, the FHWA published a notice of intent to form an advisory committee in the Federal Register on July 11, 2006 (71 FR 39138). This notice, consistent with the requirements of the Federal Advisory Committee Act (FACA), 5 U.S.C. App. II, announced the establishment of the Task Force and invited comments and nominations for membership.

We received a total of fifty-four (54) nominations submitted to the docket for the National SRST Task Force; forty-six (46) were nominated to serve on behalf of a specific organization and eight (8) nominations were for particular individuals. In selecting the members of the Task Force consistent with statutory direction, the FHWA attempted to achieve a balanced membership representing a broad cross-section of the diverse agencies, organizations, and individuals that are involved in Safe Routes to School activities and programs in the United States. Pursuant to congressional conference report language (SAFETEA-LU, Joint Explanatory Statement of the Committee of the Conference, House Report 109-203, p. 866-867 or you may visit http://safety.fhwa.dot.gov/saferoutes/legislation.htm to view an electronic copy of the conference report language), a broad range of agencies was selected consisting of “members [that are] representatives from State and local agencies as well as relevant non-profit organizations and associations including organizations or associations that represent automobile drivers.”

The seventeen (17) selected members are as follows:

Dr. Phyllis Agran, MD, MPH of the University of California, Irvine, CA will represent the American Academy of Pediatrics, a national health-related organization.

Ms. Barbara Alberson is Chief of the State and Local Injury Control Section of the California Department of Health. She will serve representing the State and Territorial Injury Prevention Directors Association, a national health-related organization.

Mr. Thomas Brahms is Executive Director of the Institute of Transportation Engineers. He is located in Washington, DC and will represent professionals working in the transportation field.

Ms. Sabrina Cruz is Principal of Brichta Elementary School in Tucson, AZ. Principal Cruz will represent the educational community and the Pima County-Tucson Safe Routes to School Program.

Mr. Richard Deal, PE, TE, PTOE is a City Traffic Engineer for Monterey, CA and will represent the American Public Works Association and professionals working in the transportation field.

The Honorable Sue Frank is Mayor of Raytown, Missouri. She is a locally elected official and will represent local interests through the National Association of Regional Councils.

Ms. Deborah Hubsmith of California is Coordinator of the Safe Routes to School National Partnership and will represent a national SRTS advocacy organization.

Mr. Michael King of Nelson and Nygaard Consulting Associates in New York, NY will represent the Association of Pedestrian and Bicycle Professionals and professionals working in the transportation field.

Ms. Lauren Marchetti will represent the National Center for Safe Routes to School at the UNC Highway Safety Research Center in Chapel Hill, NC. She is Director of the National Center for SRTS.

Ms. Refilwe Moeti is Public Health Advisor for the Division of Nutrition and Physical Activity at the Centers for Disease Control and Prevention (Department of Health and Human Services) in Atlanta, Georgia. Ms. Moeti represents a Federal Agency.

Scott Osberg, PhD is Director of Research for the American Automobile Association (AAA) Foundation for Traffic Safety in Washington, DC and will represent professionals working in the transportation field with an emphasis on safety.

Mr. Robert Ping is SRTS Program Director for the Oregon Bicycle Transportation Alliance and Willamette Pedestrian Coalition and will represent practitioners implementing SRTS programs on a local and statewide level.

Ms. Sharon Roerty is Director of Community Programs for the National Center for Bicycling and Walking and is located in Maplewood, NJ. Ms. Roerty will represent a national bicycle and pedestrian advocacy organization.

Ms. Donna Smallwood will serve as the Task Force Chair. Ms. Smallwood is the Operations Manager for MassRIDES in Boston, MA and will represent a State Department of Transportation SRTS program.

Ms. Leslie Thompson is a Planner for the Nashville Area MPO in Nashville, TN. She will represent regional interests through Tennessee's Safer Routes to School Advisory Council.

Mr. Roger Wentz of Fredericksburg, VA is the Executive Director of the American Traffic Safety Services Association and is a representative of the transportation industry.

Ms. Dale Ann Wright is an Officer for the West Valley City Police Department in West Valley City, UT and will represent local law enforcement agencies.

The agenda topics for this meeting will include (1) an overview of strategies that are already in place within the U.S. to advance SRTS programs; (2) an overview of national strategies that are used in other countries to advance SRTS programs; and (3) discussion of how best to advance SRTS programs nationwide.

The FHWA anticipates that the Task Force will meet three times in 2007. Two meetings will be held in Washington, DC, and the remaining meeting may be held in a location outside of Washington, DC. The FHWA will publish notices in the Federal Register to announce the times, dates, and locations of these future meetings. Meetings of the Task Force are open to the public and time will be provided in each meeting's schedule for comments by members of the public. Attendance will be necessarily limited by the size of the meeting room. Members of the public may present oral or written comments at the meeting. Written materials should be sent to the FHWA Task Force support contractor, Toole Design Group, 4603 Calvert Road, College Park, MD 20740, attention Ms. Amy Elmquist, (301) 927-1900, srts@tooledesign.com, ten (10) days prior to the meeting. Members of the public may also contact Ms. Amy Elmquist to be placed on the SRTS Task Force mailing list.

The National Safe Routes to School Task Force Charter, approved by the Secretary of Transportation, is as follows:

Federal Advisory Committee Charter

National Safe Routes to School Task Force Program Advisory Committee

U.S. Department of Transportation

1. Purpose: This charter establishes the National Safe Routes to School Task Force pursuant to the Federal Advisory Committee Act, as amended, 5 U.S.C., App. 2, and sets forth policies for its operations. The statutory authority for the Task Force is section 1404(h) of the Safe, Accountable, Flexible, Efficient Transportation Equity Act: A Legacy for Users. (Pub. L. 109-59).

2. Scope and Objectives:

a. The Task Force will study and develop a strategy for advancing safe routes to school programs nationwide.

b. The Task Force will submit a report to the Secretary of Transportation containing the results of the study conducted, and a description of the strategy developed above, and the report shall contain information regarding use of funds for infrastructure-related projects and non-infrastructure related activities funded by the new Federal-aid Safe Routes to School Program.

c. The Task Force will not exercise program management, regulatory or program guidance responsibilities. It makes no decision directly affecting the programs on which it provides advice. The Task Force provides a forum for the development, consideration, and communication, from a knowledgeable and independent perspective, of a strategy for advancing Safe Routes to School Programs nationwide.

3. Duties: The Task Force will be responsive to the specific assignment provided for in law:

a. Study and develop a strategy for advancing safe routes to school programs nationwide.

b. Produce a report to the Secretary of Transportation containing the results of the study conducted, a description of the strategy developed, and information regarding the use of funds for infrastructure-related projects and non-infrastructure activities funded by the new Federal-aid Safe Routes to School Program.

4. Duration: The Task Force will remain in existence for 2 years from the effective date of this charter, unless recommended for termination or renewal by the Secretary of Transportation.

5. Official to Whom Task Force Reports: The Task Force will report to the Secretary of Transportation through the sponsor.

6. Sponsor and Agency Providing Support: The Federal Highway Administration (FHWA) Office of Safety serves as sponsor of the Task Force and will designate a Designated Federal Official to direct the affairs of the Task Force and will provide necessary administrative support.

7. Membership:

a. The Task Force shall be composed of representative members appointed by the Secretary of Transportation upon recommendation by the FHWA Office of Safety. Task Force members shall represent a cross section of the diverse agencies, organizations and individuals that are involved in Safe Routes to School activities and programs in the United States. By statute, the membership will be composed of leaders in health, transportation and education, including representatives of appropriate Federal agencies. Pursuant to congressional conference report language, Task Force members could also include representatives from State and local agencies, as well as relevant non-profit organizations and associations including organizations or associations that represent automobile drivers. The FHWA Office of Safety may consult with applicable organizations to determine the appropriate individuals to be recommended.

b. Members may also be considered who are not from the categories listed above to achieve the broad range of experience and understanding noted above.

c. Nonparticipation by any member in Task Force activities will be sufficient reason for the appointment of a replacement member by the Secretary. However, members may be represented at Task Force meetings and activities by alternates representing the same interest as the member. Alternates shall have full rights and duties of the membership. If a current member is unable to attend a meeting, that member or his/her organization may nominate an alternate for approval by the Task Force sponsor, at any time prior to the meeting or activity for which the appointment is made. Unless otherwise specified by the member, the appointment is valid for only one meeting or activity including any continuation of that meeting or activity.

d. Additional persons may be designated by the Chairman to serve on working groups of the committee to assist in the performance of its functions. Representatives of the Office of the Secretary of Transportation, any agency of the U.S. Department of Transportation, or any other Federal agency may participate in any meeting of the Task Force with the approval of the Designated Federal Official.

8. Task Force Officers: The Chairman will be appointed by the FHWA Office of Safety from among the members of the Task Force. The Chairman will conduct each meeting using generally accepted meeting management techniques, provide an opportunity for participation by each member and by public attendees, ensure adherence to the agenda, maintain order, and with the Designated Federal Official, prepare any recommendations to be submitted to the FHWA Office of Safety. In the absence of the Chairman, the Designated Federal Official will appoint a Vice Chairman to perform these duties.

9. Meetings:

a. Meetings will be held at the call of or with the advance approval of the Designated Federal Official. The Task Force will meet approximately three times the first year. Special meetings and working group meetings may be called as necessary. Notice of each scheduled meeting will be published in the Federal Register.

b. All meetings are open to the public. Members of the public are permitted to appear before or file statements with the Task Force. The Designated Federal Official, or a Departmental employee alternate designated by the DFO, must be present at each Task Force meeting. This official has the authority and duty to adjourn the meeting whenever such action is deemed to be in the public interest. A quorum exists when at least one-half of the appointed members are present. A quorum must exist for any official action, including voting, to occur. In any situation involving voting, the majority vote of members present will prevail. An agenda for each meeting must be approved in advance by the Designated Federal Official in consultation with the Task Force Chairman.

10. Compensation: Members of the Task Force may receive travel and per diem, as allowed by regulations and U.S. Department of Transportation policy.

11. Costs: Operating expenses are borne by the Task Force Sponsor. The estimated annual cost to the government is $200,000 inclusive of administrative contract support, report writing, meeting costs, travel, and other logistics expenses.

12. Availability of Records: Subject to Section 552 of Title 5, United States Code, the records, reports, minutes, agenda, and other documents made available to or by the Task Force will be available for public inspection and duplication in the FHWA Office of Safety, or through the Office of Safety Safe Routes to School Web site, www.safety.fhwa.dot.gov/saferoutes/htm.

13. Reports: The Designated Federal Official will furnish detailed minutes of each meeting to the sponsor. The minutes contain a record of the persons present, a complete and accurate description of matters discussed and conclusions reached, and copies of all reports received, issued or approved by the Committee. The Chairman and Designated Federal Official will certify the accuracy of the minutes.

14. Working Groups:

a. The Task Force Chairman may establish working groups to perform specific assignments with the approval of the Designated Federal Official. The Chairman may designate members from either the Task Force or the public to serve on working groups. The Working Group Chair will be a Task Force member. Recording or videotaping of working group meetings may only be performed by the sponsor, Designated Federal Official, or their designee.

b. Any recommendations to the Department by working groups must be approved by the Task Force as a whole.

15. Filing Date: October 27, 2006, is the filing date and the effective date of this Charter which will expire in 2 years from this filing date, unless sooner terminated or extended.

Conclusion: The first meeting of the National Safe Routes to School Task Force to the Secretary of Transportation will be held on January 11, 2007, from 8:30 a.m. to 5 p.m., e.t. at the Holiday Inn Capitol, 550 C Street, SW., Washington, DC 20024.

(Authority: Section 1404(h) of Pub. L. 109-59; Pub. L. 92-463, 5 U.S.C., App. II § 1.)

Issued on: December 7, 2006.
J. Richard Capka,
Federal Highway Administrator.

[FR Doc. E6-21226 Filed 12-13-06; 8:45 am]

BILLING CODE 4910-22-P